DEPARTMENT OF TRANSPORTATION

Pipeline and Hazardous Materials Safety Administration

Pipeline Safety: Renewal Requests for Special Permit

AGENCY: Pipeline and Hazardous Materials Safety Administration (PHMSA); DOT.

ACTION: This Notice pertains to the renewal of special permits with the following docket numbers:

PHMSA-2007-29078 Kern River Gas Transmission Company

PHMSA-2009-0319 Kern River Gas Transmission Company

PHMSA-2008-0066 Columbia Gulf Transmission LLC

PHMSA-2008-0330 Columbia Gulf Transmission LLC

PHMSA-2008-0331 Columbia Gas Transmission LLC

PHMSA-2008-0345 Columbia Gas Transmission LLC

SUMMARY: Pursuant to the Federal pipeline safety laws, PHMSA is publishing this notice of special permit renewal requests that we have received from two natural gas transmission pipeline operators, seeking relief from compliance with certain requirements in the Federal pipeline safety regulations. This notice seeks public comments on these requests, including comments on any safety or environmental impacts the renewal of these permits would have. For each listed Special Permit renewal request, an Environmental Assessment is also available for review and comment. At the conclusion of the 30-day comment period, PHMSA will evaluate the comments and the technical analysis of the renewal requests, to determine whether to grant or deny the renewals.

DATES: Submit any comments regarding these special permit requests by December 4, 2014.

ADDRESSES: Comments should reference the specific docket number for which the comment applies. Comments may be submitted in the following ways:

• At the E-Gov Web site: http://www.Regulations.gov. This site allows the public to enter comments on any Federal Register notice issued by any agency.

• By Mail: Docket Management System: U.S. Department of Transportation, Docket Operations, M-30, West Building Ground Floor, Room W12-140, 1200 New Jersey Avenue SE., Washington, DC 20590.

• By Hand Delivery: DOT Docket Management System: U.S. Department of Transportation, Docket Operations, M-30, West Building Ground Floor, Room W12-140, 1200 New Jersey Avenue SE., Washington, DC 20590 between 9:00 a.m. and 5:00 p.m., Monday through Friday, except Federal holidays.

Instructions: At the beginning of your comments, please identify the docket number for the special permit renewal request you are commenting on. If you submit your comments by mail, please submit two copies. To receive confirmation that PHMSA has received your comments, please include a self-addressed stamped postcard. Internet users may submit comments at http://www.Regulations.gov.

Note: Please read the privacy statement published on http://www.Regulations.gov. Comments, including any personal information provided, are posted without changes or edits to http://www.Regulations.gov.

Contacts for General or Technical Information

General: Kay McIver by telephone at (202) 366-0113; or, email at kay.mciver@dot.gov.

Technical: Steve Nanney by telephone at (713) 272-2855; or, email at steve.nanney@dot.gov.

SUPPLEMENTARY INFORMATION:

PHMSA has received the following special permit renewal requests from two pipeline operators who seek relief from compliance with certain federal pipeline safety regulations. Each request includes a technical analysis provided by the respective operator, and filed under the original issued special permit number in the Federal Docket Management System (FDMS) at http://www.Regulations.gov. PHMSA invites interested persons to participate by reviewing these special permit renewal requests by submitting written comments, data or other views in the FDMS. Please include comments on any potential environmental impacts that may result if these special permit renewals are granted.

Details of Special Permit renewals received:

Docket No. | Requesters | Regulations affected | Nature of special permit
PHMSA-2007-29078 | Kern River Gas Transmission Company | 49 49 CFR 192.111, 192.201, 192.505, and 192.619 | To reauthorize Kern River Gas Transmission Company to continue its operation as defined in the original Special Permit issued on March 29, 2010, to operate up to a MAOP based upon 80 percent of specified minimum yield strength (SMYS) in Class 1 locations, 67 percent SMYS in Class 2 locations, and 56 percent of SMYS Class 3 locations of the pipeline system. The Special Permit renewal request seeks to waive compliance from certain Federal regulations found in 49 CFR 192.111, 192.201, 192.505 and 192.619. For the purposes of this Special Permit, the Kern River pipeline system means pipeline facilities beginning at the discharges of the Muddy Creek and Painter compressor stations, and at the Anschutz meter in Lincoln County, Wyoming, routed through Utah and Nevada, to the outlet side of the Daggett meter station located in San Bernardino County, California where it interconnects with the Mojave Pipeline. The Kern River pipeline system consists of 682 miles of a 36-inch diameter mainline, 635 miles of 36-inch diameter loop lines, 10 compressor stations, 48 meter stations, six (6) receipt laterals, and seven (7) delivery laterals.
PHMSA-2009-0319 | Kern River Gas Transmission Company | 49 CFR 192.625(b) | To reauthorize Kern River Gas Transmission Company to continue its operation as defined in the original Special Permit issued on March 19, 2010, for non-odorization of a pipeline lateral. The Special Permit renewal request seeks to waive compliance from certain Federal regulations found in 49 CFR 192.625(b) for the continued non-odorized operation of a 1,083 foot section of Kern River's Centennial Lateral, a 12-inch natural gas pipeline which operates at a MAOP of 1,333 psig. The Centennial Lateral main line tap valve is located on a corner lot near the intersection of Centennial Parkway and North 5th Street in Clark County, Nevada.
PHMSA-2008-0066 | Columbia Gulf Transmission LLC, Owned and operated by NiSource Gas Transmission and Storage (NGT&S) | 49 CFR 192.611(a) | To reauthorize Columbia Gulf to continue its operation as defined in the original Special Permit issued on March 2, 2010, for a Class 1 to Class 3 location change, where the population density has increased along the pipeline route. The Special Permit renewal request seeks to waive compliance from certain Federal regulations found in 49 CFR 192.611(a) for three sections and nine total segments of the 30-inch Mainline 100, the 30-inch Mainline 200, and the 36-inch Mainline 300 pipelines located in Williamson and Davidson Counties in the State of Tennessee. The segments would continue to operate at their existing Maximum Allowable Operating Pressure (MAOP) of 935 psig for the 30-inch Mainline 100 and a MAOP of 1008 psig and design factor of 0.72 in a Class 3 location for both of the 30-inch Mainline 200 and the 36-inch Mainline 300 pipelines.
PHMSA-2008-0330 | Columbia Gulf Transmission LLC, Owned and operated by NiSource Gas Transmission and Storage (NGT&S) | 49 CFR 192.611(a) | To reauthorize Columbia Gulf to continue its operation as defined in the original Special Permit issued on April 13, 2010, for a Class 1 to Class 3 location change where the population density has increased along the pipeline route. The Special Permit renewal request seeks to waive compliance from certain Federal regulations found in 49 CFR 192.611(a) for two natural gas transmission pipeline segments on the 30-inch Mainline 200 and the 36-inch Mainline 300 pipelines located in the Mt. Juliet area, in Wilson County, Tennessee. The Special Permit allows Columbia Gulf to continue to operate each special permit segment at its current MAOP of 1,008 psig and design factor of 0.72 in a Class 3 location for the 30-inch Mainline 200 and the 36-inch Mainline 300 pipelines.
PHMSA-2008-0331 | Columbia Gas Transmission LLC, Owned and operated by NiSource Gas Transmission and Storage (NGT&S). | 49 CFR 192.611(a) | To reauthorize Columbia Gas to continue its operation as defined in the original Special Permit issued on April 13, 2010, for a Class 1 to Class 3 location change where the population density has increased along the pipeline route. The Special Permit renewal request seeks to waive compliance from certain Federal regulations found in 49 CFR 192.611(a) for six natural gas pipeline segments on the 30-inch SM-80 and SM-80 Loop pipelines located in Putnam and Cabell Counties of West Virginia. Granting a renewal of the Special Permit would allow Columbia Gas to continue to operate the Special Permit segments at the current MAOP of 935 psig and design factor of 0.72 in a Class 3 location for both of the pipelines.
PHMSA-2008-0345 | Columbia Gas Transmission LLC, Owned and operated by NiSource Gas Transmission and Storage (NGT&S). | 49 CFR 192.611(a) | To reauthorize Columbia Gas to continue its operation as defined in the original Special Permit issued on April 13, 2010, for a Class 1 to Class 3 location change where the population density has increased along the pipeline route. The Special Permit renewal request seeks to waive compliance from certain Federal regulations found in 49 CFR 192.611(a) for three natural gas transmission pipeline segments on the 24-inch R-701 pipeline located in Lawrence County, Ohio. Renewal of the class change Special Permit would allow Columbia Gas to continue to operate the Special Permit segments at the current MAOP of 900 psig and design factor of 0.72 in a Class 3 location.

Before acting on the special permit renewal requests, PHMSA will evaluate all comments received on or before the comments closing date. PHMSA will consider each relevant comment received in its decision to grant or deny the renewal requests. Comments will be evaluated after this date only if it is possible to do so without incurring additional expense or delay.

Authority: 49 U.S.C. 60118 (c)(1) and 49 CFR 1.53.

Issued in Washington, DC, on October 29, 2014.
Jeffrey D. Wiese,
Associate Administrator for Pipeline Safety.

[FR Doc. 2014-26086 Filed 11-3-14; 8:45 am]

BILLING CODE 4910-60-P